COMMISSION ON CIVIL RIGHTS

Agenda and Notice of Public Meeting of the New Hampshire Advisory Committee

Notice is hereby given, pursuant to the provisions of the rules and regulations of the U.S. Commission on Civil Rights, that a community forum of the New Hampshire Advisory Committee will begin at 9 a.m. and end at 3:30 p.m., Thursday, December 4, 2003, in the Aldermanic Chambers of Manchester City Hall, 108 Elm Street, Manchester, New Hampshire.. The purpose of the community forum is to address issues related to access to health care by limited-English-proficient and hearing-impaired persons.

Persons desiring additional information should contact Aonghas St-Hilaire of the Eastern Regional Office, (202) 376-7533, TDD: (202) 376-8116. Hearing impaired persons who will attend the community forum and require the services of a sign language interpreter should contact the Eastern Regional Office at least 10 (ten) working days before the scheduled date of the community forum.

The community forum will be conducted pursuant to the provisions of the rules and regulations of the Commission.

Dated at Washington, DC November 19, 2003.
Ivy L. Davis,
Chief, Regional Programs Coordination Unit.

[FR Doc. 03-29585 Filed 11-25-03; 8:45 am]

BILLING CODE 6335-01-P